DEPARTMENT OF HEALTH AND HUMAN SERVICES

Food and Drug Administration

[Docket No. FDA-2013-N-0010]

Cooperative Agreement to Support the Food and Agriculture Organization

AGENCY: Food and Drug Administration, HHS.

ACTION: Notice.

SUMMARY: The Food and Drug Administration (FDA) is announcing its intention to receive and consider a single source application for award of a cooperative agreement in fiscal year 2013 to the Food and Agriculture Organization (FAO) of the United Nations to support global strategies that address food safety and public health.

The goal of this collaborative project between FDA and FAO is to contribute to the knowledge base and development of food safety systems globally due to the increasingly diverse and complex food supply. The project is also designed to enhance and broaden FDA's ability to address global food safety and public health issues associated with food as well as provide opportunities to leverage additional resources of other countries. The collaborative project will also support the FDA's implementation of the FDA Food Safety Modernization Act (FSMA), including FDA's International Food Safety Capacity Building Plan, which emphasizes the concept of preventing food safety-related problems before they occur and the importance of establishing strong relationships and mutual support among all stakeholders, including multilateral organizations, to improve worldwide food safety. In addition, the collaborative project will support food safety, nutrition, and public health programs that align with FDA's mission.

DATES: Important dates are as follows:

1. The application due date is September 1, 2013.

2. The anticipated start date is September 2013.

3. The expiration date is September 2, 2013.

ADDRESSES: Submit electronic applications to: http://www.grants.gov. For more information, see section III of the SUPPLEMENTARY INFORMATION section.

FOR FURTHER INFORMATION CONTACT: Scientific/Programmatic Contact: Julie Moss, Center for Food Safety and Applied Nutrition (HFS-550), Food and Drug Administration, 5100 Paint Branch Pkwy., College Park, MD 20740, 240-402-2031, Julie.moss@fda.hhs.gov. Grants Management Contact: Gladys Melendez, Office of Acquisitions and Grant Services (HFA 500), Food and Drug Administration, 5630 Fishers Lane, rm. 2032, Rockville, MD 20857, 301-827-7175, gladys.bohler@fda.hhs.gov.

For more information on this funding opportunity announcement (FOA) and to obtain detailed requirements, please refer to the full FOA located at www.fda.gov/food/newsevents/default.htm.

SUPPLEMENTARY INFORMATION:

I. Funding Opportunity Description

93.103 RFA-FD-13-037

A. Background

An intergovernmental organization, FAO has 191 Member Nations, two associate members, and one member organization (the European Union). Achieving food security for all is at the heart of FAO's efforts—to make sure people have regular access to enough high-quality food to lead active, healthy lives. FAO's mandate is to raise levels of nutrition, improve agricultural productivity, better the lives of rural populations, and contribute to the growth of the world economy. FAO's activities comprise four main areas:

Putting information within reach: FAO serves as a knowledge network. The organization uses the expertise of its staff—agronomists, foresters, fisheries and livestock specialists, nutritionists, social scientists, economists, statisticians and other professionals—to collect, analyze, and disseminate data that aid development.

Sharing policy expertise: FAO lends its years of experience to member countries in devising agricultural policy, supporting planning, drafting effective legislation, and creating national strategies to achieve rural development and hunger alleviation goals.

Providing a meeting place for nations: As a neutral forum, experts from around the globe convene at headquarters or in field offices to forge agreements on major food and agriculture issues.

Bringing knowledge to the field: FAO provides the technical know-how and mobilizes and manages millions of dollars provided by industrialized countries, development banks, and other sources to make sure the projects achieve their goals.

Capacity Development is a core function highlighted in FAO's new strategic framework. Member Countries place strong emphasis on FAO enhancing delivery in this area as they recently approved the Corporate Strategy on Capacity Development. The Strategy was developed in consultation with Member Countries and all FAO units worldwide. Taking a corporate approach to Capacity Development allows FAO to learn from its collective efforts and to support Member Countries in their own Capacity Development activities. The new FAO Capacity Development framework will guide FAO staff and their partners in analyzing capacities in Member Countries and identifying the appropriate intervention(s) for fostering sustainable development.

FAO supports Member Countries in developing their capacities to effectively manage food safety and quality as a key step to safeguarding the health and well-being of people as well as to accessing domestic, regional, and international markets. Capacity Development in Food Safety and Quality is the process through which relevant stakeholders from farm to table (including government agencies, food enterprises, academia, and consumers) are able to better perform their functions and to assume their responsibilities in ensuring safety and quality of food for domestic consumption and export.

For the Food Safety and Quality Unit (AGN) within FAO, its overall goal is to improve systems of food safety and quality management, based on scientific principles, that lead to reduced foodborne illness and support fair and transparent trade, thereby contributing to economic development, improved livelihoods, and food security. This unit:

1. Provides independent scientific advice on food safety and nutrition, which serves as the basis for international food standards.

2. Develops institutional and individual capacities for food control and food safety management in many countries, including the management of food safety emergencies.

3. Supports processes for the development of food safety policy frameworks.

4. Facilitates global access to information and encourages and supports the development of food safety/quality networks.

While the specific projects to be undertaken under this agreement will be determined following the agreement entering into force, examples of the types of food safety projects of interest to FDA that could be undertaken by the FAO include the following: Development of policy support tools to guide planning and investment in national food control systems; provision of technical advice for the development and improvement of integrated and modern food control systems; enhancement of effective participation in the work of the Codex Alimentarius Commission and other international fora; addressing emerging food safety issues; and development of technical tools and guides related to various technical and managerial aspects of food control. In addition to the aforementioned types of projects, FDA would also be interested in supporting nutrition projects through this Agreement. Examples of such projects include the FAO's Nutrition Education and Communication project focusing on professional education, as well as assistance with countries seeking to develop effective food-based dietary guidelines.

AGN also houses the secretariat of the Joint FAO/World Health Organization Codex Alimentarius Secretariat.

B. Research Objectives

With an increasingly diverse and complex global food supply, FDA's interest is to strengthen food safety systems globally to prevent food safety problems rather than merely reacting to problems after they occur. FDA recognizes that it can't do this alone. By working with other World Trade Organization member countries and partnering with the FAO, FDA can broaden the reach of food safety capacity building efforts.

This Cooperative Agreement will allow FDA to deepen its international food safety capacity building partnerships, provide a wider scope of impact than exists currently, and merge resources with other countries.

This cooperative agreement will provide support so that the FAO can meet the following projected milestones:

1. Contribute to the knowledge base and development of food safety systems due to the increasingly diverse and complex food supply.

2. Enhance and broaden FDA's ability to address global food safety and public health issues associated with food.

3. Provide opportunities to leverage additional resources of other countries.

4. Support FSMA and its International Food Safety Capacity Building Plan, which emphasizes the concept of preventing food safety-related problems before they occur and the importance of establishing strong relationships and mutual support among all stakeholders, including multilateral organizations, to improve worldwide food safety.

5. Support food safety, nutrition, and public health programs that align with FDA's mission.

C. Eligibility Information

Competition is limited to the FAO because, as a global organization with a well-established, trusted presence, access to 191 Member Nations, and an ability to coordinate capacity building programs at a regional and international level, it is uniquely qualified to further the global food safety capacity building objectives of this cooperative agreement. This ability to advance the objectives of this cooperative agreement through Member Country engagement and leveraging is a requisite for success.

II. Award Information/Funds Available

A. Award Amount

The Center for Food Safety and Applied Nutrition intends to fund one award up to $750,000 total costs (direct plus indirect costs) for FY 2013. Future year amounts will depend on annual appropriations and successful performance.

B. Length of Support

The award will provide 1 year of support and include future recommended support for 4 additional years, contingent upon satisfactory performance in the achievement of project and program reporting objectives during the preceding year and the availability of Federal fiscal year appropriations.

III. Electronic Application, Registration, and Submission

Only electronic applications will be accepted. To submit an electronic application in response to this FOA, applicants should first review the full announcement located at www.fda.gov/food/newsevents/default.htm. (FDA has verified the Web site addresses throughout this document, but FDA is not responsible for any subsequent changes to the Web sites after this document publishes in the Federal Register.) For all electronically submitted applications, the following steps are required.

• Step 1: Obtain a Dun and Bradstreet (DUNS) Number

• Step 2: Register With System for Award Management (SAM)

• Step 3: Obtain Username & Password

• Step 4: Authorized Organization Representative (AOR) Authorization

• Step 5: Track AOR Status

• Step 6: Register With Electronic Research Administration (eRA) Commons

Steps 1 through 5, in detail, can be found at http://www07.grants.gov/applicants/organization_registration.jsp. Step 6, in detail, can be found at https://commons.era.nih.gov/commons/registration/registrationInstructions.jsp. After you have followed these steps, submit electronic applications to: http://www.grants.gov.

Dated: July 29, 2013.
Leslie Kux,
Assistant Commissioner for Policy.

[FR Doc. 2013-18631 Filed 8-1-13; 8:45 am]

BILLING CODE 4160-01-P